Title 3—

The President

Proclamation 7785 of May 14, 2004

National Defense Transportation Day and National Transportation Week, 2004

By the President of the United States of America

A Proclamation

Each year, America's transportation system helps many travelers reach their destinations and carries more than 16 billion tons of freight worth almost $12 trillion. In addition, our transportation systems play a critical role in deploying and sustaining our troops and their equipment around the world.

Throughout our history, advances in transportation have been at the forefront of progress. Last December, we celebrated the centennial of the Wright Brothers' first flight in North Carolina. The pioneering work of the Wright Brothers and subsequent improvements in aviation ushered in new eras of freedom and captured the imaginations of people around the world.

Today, our Nation proudly continues this tradition of innovation in all transportation fields. As we observe National Defense Transportation Day and National Transportation Week, we continue to modernize transportation, and we honor transportation professionals who help to keep our transportation systems secure, efficient, and reliable.

To recognize the men and women who work in the transportation industry and who contribute to our Nation's well-being and defense, the Congress, by joint resolution approved May 16, 1957, as amended (36 U.S.C. 120), has designated the third Friday in May of each year as “National Defense Transportation Day,” and, by joint resolution approved May 14, 1962, as amended (36 U.S.C. 133), declared that the week during which that Friday falls be designated as “National Transportation Week.”

NOW, THEREFORE, I, GEORGE W. BUSH, President of the United States of America, do hereby proclaim Friday, May 21, 2004, as National Defense Transportation Day and May 16 through May 22, 2004, as National Transportation Week.

IN WITNESS WHEREOF, I have hereunto set my hand this fourteenth day of May, in the year of our Lord two thousand four, and of the Independence of the United States of America the two hundred and twenty-eighth.

B

[FR Doc. 04-11460

Filed 5-18-04; 8:45 am]

Billing code 3195-01-P